DEPARTMENT OF THE INTERIOR

Geological Survey

[GX22LB00TZ80100; OMB Control Number 1028-0079]

Agency Information Collection Activities; Submission to the Office of Management and Budget for Review and Approval; North American Breeding Bird Survey

AGENCY: U.S. Geological Survey, Interior.

ACTION: Notice of information collection; request for comment.

SUMMARY: In accordance with the Paperwork Reduction Act of 1995, the U.S. Geological Survey (USGS) is proposing to renew an information collection.

DATES: Interested persons are invited to submit comments on or before April 28, 2022.

ADDRESSES: Written comments and recommendations for the proposed information collection should be sent within 30 days of publication of this notice to www.reginfo.gov/public/do/PRAMain. Find this particular information collection by selecting “Currently under 30-day Review—Open for Public Comments” or by using the search function. You may also submit comments by mail to the U.S. Geological Survey, Information Collections Officer, 12201 Sunrise Valley Drive MS 159, Reston, VA 20192; or by email to gs-info_collections@usgs.gov. Please reference OMB Control Number 1028-1028-0079 in the subject line of your comments.

FOR FURTHER INFORMATION CONTACT: To request additional information about this Information Collection Request (ICR), contact David Ziolkowski by email at dziolkowski@usgs.gov or by telephone at 301-497-5753. You may also view the ICR at http://www.reginfo.gov/public/do/PRAMain. Individuals who are hearing- or speech-impaired may call the Federal Relay Service at 1-800-877-8339 for TTY assistance.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 20, 2022 (FR 87, Number 13, Pages 3115-3116). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: Respondents supply the U.S. Geological Survey with bird count data for more than 600 North American bird species. These data and the analyzed relative abundance and population trend estimates derived from them will be made available via the internet and through special publications, which are used by Government agencies, industry, education programs, and the general public. We will protect information from respondents considered proprietary under the Freedom of Information Act (5 U.S.C. 552), its implementing regulations (43 CFR part 2), and in accordance with “Data and information to be made available to the public or for limited inspection” (30 CFR 250.197). Responses are voluntary. No questions of a `sensitive' nature are asked.

Title of Collection: North American Breeding Bird Survey.

OMB Control Number: 1028-0079.

Form Number: None.

Type of Review: Extension of a currently approved collection.

Respondents/Affected Public: Individuals.

Total Estimated Number of Annual Respondents: 1,650.

Total Estimated Number of Annual Responses: 2,600.

Estimated Completion Time per Response: 11 hours on average.

Total Estimated Number of Annual Burden Hours: 28,600.

Respondent's Obligation: Voluntary.

Frequency of Collection: Annually.

Total Estimated Annual Nonhour Burden Cost: $152,100. (Mileage costs average $56 per response; based on an approximate 100-mile round trip made for data collection per response and using the U.S. GSA 2021 privately owned vehicle mileage reimbursement rate of $58.50 per mile.)

An agency may not conduct or sponsor, nor is a person required to respond to, a collection of information unless it displays a currently valid OMB control number.

The authority for this action is the Paperwork Reduction Act of 1995 (44 U.S.C. 3501 et seq.).

Thomas O'Connell,
Center Director, Eastern Ecological Science Center, U.S. Geological Survey.

[FR Doc. 2022-06542 Filed 3-28-22; 8:45 am]

BILLING CODE 4338-11-P